ENVIRONMENTAL PROTECTION AGENCY

[EPA-HQ-OPPT-2014-0838; FRL-9932-80-OEI]

Agency Information Collection Activities; Assessment of Environmental Performance Standards and Ecolabels for Federal Procurement; Submitted to OMB for Review and Approval; Comment Request

AGENCY: Environmental Protection Agency (EPA).

ACTION: Notice.

SUMMARY: EPA has submitted the following information collection request (ICR) to the Office of Management and Budget (OMB) for review and approval in accordance with the Paperwork Reduction Act (PRA): “Assessment of Environmental Performance Standards and Ecolabels for Federal Procurement” and identified by EPA ICR No. 2516.01 and OMB Control No. 2070-NEW. The ICR is available in the docket along with other related materials, including details of the pilot assessment criteria for assessing volunteer standards and ecolabels, and the assessment tool for conducting the assessments. The ICR provides a detailed explanation of the collection activities and the burden estimate that is only briefly summarized in this document. EPA has addressed the comments received in response to the previously provided public review opportunity issued in the Federal Register on March 19, 2015 (80 FR 14372). With this submission, EPA is providing an additional 30 days for public review. In addition, EPA is seeking volunteer standards development organizations and ecolabel programs applicable to paints/coatings, flooring, and/or furniture to be assessed against the pilot criteria for potential EPA recommendation to federal purchasers per Executive Order 13693.

DATES: Comments must be received on or before May 25, 2016.

ADDRESSES: Submit your comments, identified by docket identification (ID) number EPA-HQ-OPPT-2014-0838, to both EPA and OMB as follows:

• To EPA online using http://www.regulations.gov (our preferred method) or by mail to: EPA Docket Center, Environmental Protection Agency, Mail Code 28221T, 1200 Pennsylvania Ave. NW., Washington, DC 20460.

• To OMB via email to oira_submission@omb.eop.gov. Address comments to OMB Desk Officer for EPA.

EPA's policy is that all comments received will be included in the docket without change, including any personal information provided, unless the comment includes profanity, threats, information claimed to be Confidential Business Information (CBI), or other information whose disclosure is restricted by statute. Do not submit electronically any information you consider to be CBI or other information whose disclosure is restricted by statute.

To volunteer a standard or ecolabel to be assessed, please email the pilot effort's independent assessment entity under contract with EPA, Industrial Economics, Inc. at epapilotassessment@indecon.com.

FOR FURTHER INFORMATION CONTACT: Alison Kinn Bennett, Chemistry, Economics, and Sustainable Strategies Division (7409M), Office of Pollution Prevention and Toxics, Environmental Protection Agency, 1200 Pennsylvania Ave. NW., Washington, DC 20460-0001; telephone number: (202) 564-8859; email address: kinn.alison@epa.gov.

SUPPLEMENTARY INFORMATION: Docket: Supporting documents, including the ICR that explains in detail the information collection activities and the related burden and cost estimates that are summarized in this document, are available in the docket for this ICR. The docket can be viewed online at http://www.regulations.gov or in person at the EPA Docket Center, West William Jefferson Clinton Bldg., Rm. 3334, 1301 Constitution Ave. NW., Washington, DC. The telephone number for the Docket Center is (202) 566-1744. For additional information about EPA's public docket, visit http://www.epa.gov/dockets.

ICR status: This ICR is for a new information collection activity. Under PRA, 44 U.S.C. 3501 et seq., an agency may not conduct or sponsor, and a person is not required to respond to, a collection of information, unless it displays a currently valid OMB control number. The OMB control numbers are displayed either by publication in the Federal Register or by other appropriate means, such as on the related collection instrument or form, if applicable. The display of OMB control numbers for certain EPA regulations is consolidated in 40 CFR part 9.

Abstract: EPA is engaging in this collection pursuant to the authority in the Pollution Prevention Act (42 U.S.C. 13103(b)(11)), which requires EPA to “[i]dentify opportunities to use Federal procurement to encourage source reduction,” and section 12(d) of the National Technology Transfer and Advancement Act (NTTAA) (15 U.S.C. 272 note), which requires Federal agencies to “use technical standards that are developed or adopted by voluntary consensus standards bodies, using such technical standards as a means to carry out policy objectives or activities.” Federal agencies need this assessment per the draft guidelines to determine which, among sometimes dozens of private sector standards within a single purchase category, are appropriate and effective in meeting Federal procurement goals and mandates.

Federal agencies must comply with multiple sustainability-related purchasing mandates. While Federal purchasing policy is clear for the several standards and eco-labels that are listed in statute, regulation, or Executive Order, the lack of independently assessed information about and Federal guidance on using other product environmental performance standards and eco-labels often results in an inconsistent approach by Federal purchasers and confusion and uncertainty for vendors and manufacturers.

Respondents/Affected Entities: Entities potentially affected by this ICR are standards development organizations, eco-labeling programs, and environmental certification entities.

Respondent's obligation to respond: Responses to the collection of information are voluntary. Respondents may claim all or part of a response confidential. EPA will disclose information that is covered by a claim of confidentiality only to the extent permitted by, and in accordance with, the procedures in TSCA section 14 and 40 CFR part 2.

Estimated total number of potential respondents: 20.

Frequency of response: Once during the 2016 pilot and a to-be-determined frequency depending upon learnings from the pilot.

Estimated total burden: 340 hours (per year). Burden is defined at 5 CFR 1320.3(b).

Estimated total costs: $ 24,711 (per year), includes no annualized capital investment or maintenance and operational costs.

Changes in the estimates: This is a request for a new approval from OMB.

Authority: 44 U.S.C. 3501 et seq.

Courtney Kerwin,
Acting Director, Collection Strategies Division.

[FR Doc. 2016-09519 Filed 4-22-16; 8:45 am]

BILLING CODE 6560-50-P